ENVIRONMENTAL PROTECTION AGENCY

[EPA-HQ-OPP-2007-0038; FRL-8113-9]

Syracuse Research Corporation; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Syracuse Research Corporation in accordance with 40 CFR 2.307(h)(3) and 2.308(i)(2). Syracuse Research Corporation has been awarded multiple contracts to perform work for OPP, and access to this information will enable Syracuse Research Corporation to fulfill the obligations of the contract.

DATES: Syracuse Research Corporation will be given access to this information on or before February 12, 2007.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0038. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Contractor Requirements

Under Contract No. EP06H000149, the contractor will perform the following: Develop surface water scenarios based on the type of assessment needed. A list will be supplied by the EPA Project Officer. For the standard risk assessment process, these typically include a national or regional scenario which is used in the screening-level risk assessment. Occasionally, a more localized standard scenario or type may be needed to answer specific questions related to risk and mitigation.

The contractor shall use the guidance provided, including the Pesticide Root Zone Model (PRSM) Guidance for Selecting Field Crop and Orchard Scenario Development Input Parameters, the Input Parameter Guidance, and the example input scenario file to develop a single scenario for each of the identified crop/geography combinations. This task may also include the development of scenarios specifically tailored to assessing risks to endangered organism which need refinement based on species occurrence, habitat, life pattern, pesticide-use pattern, and agronomic practices. The need to rapidly develop local scenarios to provide estimated environmental concentrations (EECs) relevant to a specific endangered species is critical to the assessment of risk to endangered species.

OPP has determined that the contracts described in this document involve work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contract with Syracuse Research Corporation, prohibits use of the information for any purpose not specified in this contract; prohibits disclosure of the information to a third party without prior written approval from the Agency; and requires that each official and employee of the contractor sign an agreement to protect the information from unauthorized release and to handle it in accordance with the FIFRA Information Security Manual. In addition, Syracuse Research Corporation is required to submit for EPA approval a security plan under which any CBI will be secured and protected against unauthorized release or compromise. No information will be provided to Syracuse Research Corporation until the requirements in this document have been fully satisfied. Records of information provided to Syracuse Research Corporation will be maintained by the EPA Project Officer for this contract. All information supplied to Syracuse Research Corporation by EPA for use in connection with this contract will be returned to EPA when Syracuse Research Corporation has completed its work.

List of Subjects

Environmental protection, Business and industry, Government contracts, Government property, Security measures.

Dated: January 29, 2007.
Robert A. Forrest,
Acting Director, Office of Pesticide Programs.

[FR Doc. E7-1797 Filed 2-6-07; 8:45 am]

BILLING CODE 6560-50-S